DEPARTMENT OF HOMELAND SECURITY

Coast Guard

33 CFR Part 165

[Docket No. USCG-2009-0139]

RIN 1625-AA11

Regulated Navigation Area; Gulf Intracoastal Waterway, Inner Harbor Navigation Canal, Harvey Canal, Algiers Canal, New Orleans, LA; Correction

ACTION: Interim rule; Correction.

SUMMARY: In the Federal Register published on June 8, 2010, the Coast Guard placed the Interim Rule for the Regulated Navigation Area; Gulf Intracoastal Waterway, Inner Harbor Navigation Canal, Harvey Canal, Algiers Canal, New Orleans, LA into the Code of Federal Regulations. That publication contained an error in the DATES section, stating an incorrect May 21, 2010 effective date. This error does not impact the Interim Rule's correct May 24, 2010 effective date because the rule is to be enforced only 24 hours in advance of, and during the duration of specified predicted weather conditions. In fact, the conditions to enforce this rule between the published effective date and the correct effective date did not occur. But, this error may cause confusion among members of the public.

DATES: This correction is effective July 12, 2010.

FOR FURTHER INFORMATION CONTACT: For information about this correction, contact Kevin d'Eustachio, Office of Regulations and Administrative Law, telephone (202) 372-3854, e-mail kevin.m.deustachio@uscg.mil. For information about the original regulation, contact Lieutenant Commander (LCDR) Marty Daniels, Coast Guard; telephone (504) 565-5044, e-mail William.M.Daniels@uscg.mil.

SUPPLEMENTARY INFORMATION:

In FR Vol. 75, No. 109, USCG 2010-0139, appearing on page 32275 in the issue of Tuesday, June 8, 2010, the following correction is made:

1. On page 32275, in the third column, in the DATES section, remove “May 21, 2010” and add in its place “May 24, 2010”.

Dated: June 30, 2010.
Kathryn Sinniger,
Acting Chief of the Office of Regulations and Administrative Law (CG-943), U.S. Coast Guard.

[FR Doc. 2010-16375 Filed 7-9-10; 8:45 am]

BILLING CODE 9110-04-P